FEDERAL COMMUNICATIONS COMMISSION

47 CFR Part 73

[DA 05-1736; MB Docket No. 04-429, RM-11120]

Radio Broadcasting Services; Burlington and Cary, NC

AGENCY: Federal Communications Commission.

ACTION: Final rule.

SUMMARY: The Audio Division, at the request of Capstar TX Limited Partnership, licensee of Station WRSN-FM, Channel 230C, Burlington, North Carolina, deletes Channel 230C at Burlington, North Carolina, from the FM Table of Allotments, allots Channel 230C at Cary, North Carolina, as the community's first local FM service, and modifies the license of Station WRSN-FM to specify operation on Channel 230C at Cary. Channel 230C can be allotted to Cary, North Carolina, in compliance with the Commission's minimum distance separation requirements with a site restriction of 35.4 km (22.0 miles) west of Cary. The coordinates for Channel 230C at Cary, North Carolina, are 35-52-15 North Latitude and 79-09-40 West Longitude.

DATES: Effective August 8, 2005.

FOR FURTHER INFORMATION CONTACT: Deborah Dupont, Media Bureau, (202) 418-2180.

SUPPLEMENTARY INFORMATION: This is a synopsis of the Commission's Report and Order, MB Docket No. 04-429, adopted June 22, 2005, and released June 24, 2005. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC, 20554, (800) 378-3160, or via the company's Web site, http://www.bcpiweb.com. The Commission will send a copy of this Report and Order in a report to be sent to Congress and the Government Accountability Office pursuant to the Congressional Review Act, see U.S.C. 801(a)(1)(A).

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under North Carolina, is amended by removing Channel 230C at Burlington and by adding Cary, Channel 230C.

Federal Communications Commission.
John A. Karousos,
Assistant Chief, Audio Division, Media Bureau.

[FR Doc. 05-13572 Filed 7-12-05; 8:45 am]

BILLING CODE 6712-01-P